COMMISSION ON CIVIL RIGHTS

Agenda and Notice of Public Meeting of the South Dakota Advisory Committee

Notice is hereby given, pursuant to the provisions of the rules and regulations of the U.S. Commission on Civil Rights and the regulations of the Federal Advisory Committee Act (FACA), that a meeting of the South Dakota Advisory Committee will convene at 2 p.m. and adjourn at 4 p.m. (CST) on Thursday, March 4, 2010 at the Minnehaha County Courthouse, 425 North Dakota Avenue, 5th Floor, Multipurpose Room, Sioux Falls, SD. The purpose of the meeting is for the committee to receive an orientation and an ethics training; discuss recent Commission and regional activities, discuss current civil rights issues in the state and plan future activities. The Committee will also be briefed by an attorney on civil rights issues affecting Native Americans in the state.

Members of the public are entitled to submit written comments; the comments must be received in the regional office by April 4, 2010. The address is Rocky Mountain Regional Office, 1961 Stout Street, Suite 240, Denver, CO 80294. Persons wishing to e-mail their comments, or who desire additional information should contact Malee Craft, Regional Director, at 303-866-1040 or by e-mail to: mcraft@usccr.gov. Records generated by this meeting may be inspected and reproduced at the Rocky Mountain Regional Office, as they become available, both before and after the meeting. Persons interested in the work of this advisory committee are advised to go to the Commission's Web site, www.usccr.gov, or to contact the Rocky Mountain Regional Office at the above e-mail or street address.

Hearing-impaired persons who will attend the meeting and require the services of a sign language interpreter should contact the Regional Office at least ten (10) working days before the scheduled date of the meeting.

The meeting will be conducted pursuant to the provisions of the rules and regulations of the Commission and FACA.

Dated in Washington, DC, February 10, 2010.
Peter Minarik,
Acting Chief, Regional Programs Coordination Unit.

[FR Doc. 2010-3018 Filed 2-12-10; 8:45 am]

BILLING CODE 6335-01-P